DEPARTMENT OF JUSTICE

Antitrust Division

Notice Pursuant to the National Cooperative Research and Production Act of 1993—International Cooperation for the Integration of Processes in Pre-Press, Press, and Postpress (“CIP4”)

Notice is hereby given that, on August 30, 2004, pursuant to Section 6(a) of the National Cooperative Research and Production Act of 1993, 15 U.S.C. 4301 et seq. (“the Act”), the International Cooperation for the Integration of Processes in Pre-press, Press, and Postpress (“CIP4”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances. Pursuant to Section 6(b) of the Act, the name and principal place of business of the standards development organization is: Integration of Processes in Pre-press, Press, and Postpress (CIP4), Zurich, SWITZERLAND. The nature and scope of CIP4's standard development activities are: to encourage computer based integration and automation of all processes that have to be considered in the graphic arts industry, in particular the specification of standards, such as CIP4's Job Definition Format (JDF). JDF is a comprehensive XML-based industry standard for end-to-end job ticket specification, device messaging and message interchange, and process automation methodologies.

Dorothy B. Fountain,
Deputy Director of Operations, Antitrust Division.

[FR Doc. 04-22154 Filed 10-1-04; 8:45 am]

BILLING CODE 4410-11-M